Title 3—

The President

Proclamation 10899 of March 6, 2025

Irish-American Heritage Month, 2025

By the President of the United States of America

A Proclamation

Irish Americans have played a crucial role in our great American story—courageously overcoming adversity and hardship to embolden our culture, enliven our spirit, and fortify our way of life. This Irish-American Heritage Month, we commemorate the special bond of friendship between the United States and Ireland—and we honor the extraordinary contributions of Irish-American citizens past and present.

During the 19th and 20th centuries, millions of Irish immigrants departed the rolling countryside of the Emerald Isle for the bustling cities of Boston, Chicago, and New York—leaving behind their homeland and embarking on a daring journey across the Atlantic in hopes of a new frontier of opportunity and a better future for their families. Since then, Irish Americans have fought for our freedom on the battlefield, served in our halls of government, and pioneered legendary businesses—leaving a lasting mark on their communities and our national identity.

The United States and Ireland also enjoy a long friendship strengthened by economic ties, a shared commitment to democracy, and the timeless values of faith, family, and freedom. As my Administration works to correct trade imbalances with the European Union, our historic relationship with Ireland presents an opportunity to advance fairer trade policies and stronger investment opportunities that benefit both nations.

To this day, Irish Americans are known as some of the toughest, most driven, and most devoted people on the face of the Earth. Their faith in God, love of family, and indelible commitment to our national promise continue to inspire citizens all across our country. This Irish-American Heritage Month, we salute the undying resilience and resolve of the Irish-American community, pay tribute to their tremendous achievements, and pledge to forge a future that strengthens our shared values, deepens our traditions, and restores America as one glorious Nation under God.

NOW, THEREFORE, I, DONALD J. TRUMP, President of the United States of America, by virtue of the authority vested in me by the Constitution and the laws of the United States, do hereby proclaim March 2025 as Irish-American Heritage Month. I call upon all Americans to celebrate the achievements of Irish Americans and their contributions to our Nation with appropriate ceremonies, activities, and programs.

IN WITNESS WHEREOF, I have hereunto set my hand this sixth day of March, in the year of our Lord two thousand twenty-five, and of the Independence of the United States of America the two hundred and forty-ninth.

[FR Doc. 2025-03946

Filed 3-10-25; 8:45 am]

Billing code 3395-F4-P